DEPARTMENT OF DEFENSE

Department of the Army

Privacy Act of 1974; System of Records

AGENCY: Department of the Army, DoD.

ACTION: Notice to Alter a System of Records.

SUMMARY: The Department of the Army is altering a system of records notice in its existing inventory of record systems subject to the Privacy Act of 1974, (5 U.S.C. 552a), as amended.

The alteration separate an existing routine use into three, and adds another to the Department of Veteran's Affairs to verify occupational radiation exposure for evaluating veterans benefit claims.

DATES: This proposed action will be effective without further notice on March 1, 2002 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on January 22, 2002, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: January 24, 2002.
L.M. Bynum,
Alternate OSD Federal Register Liaison Officer, Department of Defense.,

A0040-14 DASG

System name:

Radiation Exposure Records (August 7, 1997, 62 FR 42529).

Changes:

System identifier:

Change entry to read ‘A0040-11 DASG’.

* * * * *

Categories of individuals covered by the system:

Delete entry and replace with ‘All active duty Army, Reserve Army National Guard, and persons employed by the Army to include contractors, who are occupationally exposed to radiation or radioactive materials.

Categories of records in the system:

Delete ‘Automated’ and ‘data elements such as’ from first paragraph. Delete ‘, experience, . . . to exposed dosimetry film;’ and ‘harmful chemical, biological and,’ from entry. Add ‘external and internal exposure to ionizing radiation’.

Authority for maintenance of the system:

Delete entry and replace with ‘10 U.S.C. 3013, Secretary of the Army; 29 U.S.C. Chapter 15, Occupational Safety and Health; Army Regulation 11-9, The Army Radiation Safety Program; Army Regulation 40-5, Preventive Medicine; Army Regulation 40-13, Medical Support—Nuclear Chemical Accidents and Incidents; Department of the Army Pamphlet 40-18, Personnel Dosimetry Guidance and Dose Recording Procedures for Personnel Occupationally Exposed to Ionizing Radiation; 10 CFR part 19, Nuclear Regulatory Commission; and E.O. 9397 (SSN).

Purpose(s):

Delete entry and replace with ‘To monitor, evaluate, and control the risks of individual exposure to ionizing radiation or radioactive materials by comparison of test for short and long term exposure. Conduct investigations of occupational health hazards and relevant management studies and ensure efficiency in maintenance of prescribed safety standards. As well as ensure individual qualifications and education in handling radioactive materials are maintained.’

Routine uses of records maintained in the system, including categories of users and the purposes of such uses:

Delete second paragraph and replace with ‘To the National Cancer Institute for epidemiologiocal studies to assess the effects of occupational radiation exposure.

To the Center for Disease Control for epidemiological studies to assess the effects of occupational radiation exposure.

To the National Council on Radiation Protection and Measurement to research and evaluated radiation exposure levels for use in the development of guidance and recommendations on radiation protections and measurements.

To the Department of Veteran’s Affairs to verify occupational radiation exposure for evaluating veterans benefit claims.’

* * * * *

Retention and disposal:

Delete entry and replace with ‘Professional consultant control files destroy 1 year after termination. Clinical and pathological lab reports destroy when no longer needed for conducting business. Personnel dosimetry files destroy after 75 years. Personnel bioassays maintained by safety officers destroy after individual leaves the organizations or is no longer occupationally exposed; all other personnel bioassays are destroyed after 75 years. Ionizing radiation authorized personnel user listings destroy 5 years after transfer or separation of individual.

Radiation incident cases-disposition pending National Archive and Records Administration (NARA) approval. Until retention and disposal is provided by NARA, treat records as permanent.

* * * * *

A0040-11 DASG

System name:

Radiation Exposure Records.

System location:

Army installations, activities, laboratories, etc., which use or store radiation producing devices or radioactive materials or equipment. An automated segment exists at Redstone Arsenal, AL 35898-5000.

Categories of individuals covered by the system:

All active duty Army, Reserve Army National Guard, and persons employed by the Army, to include contractors, who are occupationally exposed to radiation or radioactive materials.

Categories of records in the system:

Records contain individual’s name, Social Security Number, date of birth, film badge number, coded cross-reference to place of assignment at time of exposure, dates of exposure and radiation dose, cumulative exposure, type of measuring device, and coded cross-reference to qualifying data regarding exposure readings.

Documents reflecting individual's training, external and internal exposure to ionizing radiation, reports of investigation, reports of radiological exposures, and relevant management reports.

Authority for maintenance of the system:

10 U.S.C. 3013, Secretary of the Army; 29 U.S.C. Chapter 15, Occupational Safety and Health; Army Regulation 11-9, The Army Radiation Safety Program; Army Regulation 40-5, Preventive Medicine; Army Regulation 40-13, Medical Support—Nuclear Chemical Accidents and Incidents; Department of the Army Pamphlet 40-18, Personnel Dosimetry Guidance and Dose Recording Procedures for Personnel Occupationally Exposed to Ionizing Radiation; 10 CFR part 19, Nuclear Regulatory Commission and E.O. 9397 (SSN).

Purpose(s):

To monitor, evaluate, and control the risks of individual exposure to ionizing radiation or radioactive materials by comparison of test for short and long term exposure. Conduct investigations of occupational health hazards and relevant management studies and ensure efficiency in maintenance of prescribed safety standards. As well as ensure individual qualifications and education in handling radioactive materials are maintained.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the National Cancer Institute for epidemiological studies to assess the effects of occupational radiation exposure.

To the Center for Disease Control for epidemiological studies to assess the effects of occupational radiation exposure.

To the National Council on Radiation Protection and Measurement to research and evaluated radiation exposure levels for use in the development of guidance and recommendations on radiation protections and measurements.

To the Department of Veteran's Affairs to verify occupational radiation exposure for evaluating veterans benefit claims.

The DoD ‘Blanket Routine Uses’ set forth at the beginning of the Army's compilation of systems of records notices also apply to this system.

Policies and practices for storing, retrieving, accessing, retaining, and disposing of records in the system:

Storage:

Papers in file folders, film packets, magnetic/tapes/discs.

Retrievability:

By individual's name and/or Social Security Number.

Safeguards:

Access to all records is restricted to designated individuals having official need therefore in the performance of assigned duties. In addition, access to automated records is controlled by Card Key System, which requires positive identification and authorization.

Retention and disposal:

Professional consultant control files destroy 1 year after termination. Clinical and pathological lab reports destroy when no longer needed for conducting business. Personnel dosimetry files destroy after 75 years. Personnel bioassays maintained by safety officers destroy after individual leaves the organizations or is no longer occupationally exposed; all other personnel bioassays are destroyed after 75 years. Ionizing radiation authorized personnel user listings destroy 5 years after transfer or separation of individual.

Radiation incident cases (Disposition pending National Archive and Records Administration (NARA) approval. Until retention and disposal is provided by NARA, treat records as permanent).

System manager(s) and address:

Commander, U.S. Army Aviation Missile Command Ionizing Radiation Dosimetry Branch, Building 5417, Redstone Arsenal, AL 35898-5000.

Notification procedure:

Individuals seeking to determine whether information about themselves is contained in this system should address written inquiries to Commander, U.S. Army Aviation Missile Command Ionizing Radiation Dosimetry Branch, Building 5417, Redstone Arsenal, AL 35898-5000.

Individual must furnish full name, Social Security Number, dates and locations at which exposed to radiation or radioactive materials, etc., and signature.

Record access procedures:

Individuals seeking access to information about themselves contained in this system should address written inquiries to Commander, U.S. Army Aviation Missile Command Ionizing Radiation Dosimetry Branch, Building 5417, Redstone Arsenal, AL 35898-5000.

Individual must furnish full name, Social Security Number, dates and locations at which exposed to radiation or radioactive materials, etc., and signature.

Contesting record procedures:

The Army's rules for accessing records, and for contesting contents and appealing initial agency determinations are contained in Army Regulation 340-21; 32 CFR part 505; or may be obtained from the system manager.

Record source categories:

From the individual, dosimetry film, Army and/or DoD records and reports.

Exemptions claimed for the system:

None.

[FR Doc. 02-2175 Filed 1-29-02; 8:45 am]

BILLING CODE 5001-08-P